NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 17, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-005

1. Applicant Allyson Hindle, Massachusetts General Hospital, 55 Fruit Street, Thier 505, Boston MA 02114.

Activity for Which Permit Is Requested

Take, Import into the USA. The applicant plans to study the tissue specific dive response of Weddell seals, looking at nitric oxide regulation. The study's broad objective is to better understand the natural adaptations that allow Weddell seals to control their cardiovascular system and tolerate extreme hypoxia during dives. Up to 38 Weddell seals would be temporary restrained for sample collection and morphological measurement. In addition, the applicant plans to salvage parts of dead animals encountered. Collected samples will be imported to the USA for lab analyses.

Location

Delbridge Islands, Turks Head, Turtle Rock, Hutton Cliffs, Erebus Glacier Tongue, and in and around McMurdo Sound.

Dates

September 30, 2015-April 30, 2016

Nadene G. Kennedy,
Polar Coordination Specialist, Division of Polar Programs.

[FR Doc. 2015-20305 Filed 8-17-15; 8:45 am]

BILLING CODE 7555-01-P